NEIGHBORHOOD REINVESTMENT CORPORATION

Sunshine Act Meetings

TIME AND DATE: 2:00 p.m., Thursday, December 18, 2025.

PLACE: via ZOOM.

STATUS: Parts of this meeting will be open to the public. The rest of the meeting will be closed to the public.

MATTERS TO BE CONSIDERED: Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Action Item: Temporary Delegation of Authority to the President & CEO

III. Action Item: Approval of Government in Sunshine Act Notice Waiver

IV. Discussion Item: FY25 External Audit With CliftonLarsonAllen

V. Sunshine Act Approval of Executive (Closed) Session

VI. Executive Session: FY25 External Audit With CliftonLarsonAllen

VII. Executive Session: CEO Report

VIII. Executive Session: CFO Report

IX. Executive Session: General Counsel Report

X. Executive Session: CIO Report

XI. Executive Session: Chief Audit Executive Report

XII. Action Item: Approval of Meeting Minutes for June 26 Annual Board Meeting and September 11 Regular Board Meeting

XIII. Action Item: Audit Committee Appointments

XIV. Action Item: Capital Corporations—Master Investment Agreement

XV. Action Item: Internal Audit Report Acceptance

a. Active Directory Management

b. Cyber Attack Incident Response II

c. Network Affiliations

XVI. Discussion Item: Change to FY25/26 Internal Audit Plan

XVII. Discussion Item: Lapse in Funding Policy—OMB Requested Edit

XVIII. Discussion Item: Management Program Background and Updates

a. 2026 Board Calendar

b. 2026 Board Agenda Planner

c. CFO Report

i. Financials (Through 9/30/25)

ii. Single Invoice Approvals $100K and Over

iii. Vendor Payments $350K and Over

iv. Exceptions

d. FY25-FY27 SP Scorecard—Q4

e. Network Watchlist Report

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2025-23277 Filed 12-16-25; 11:15 am]

BILLING CODE 7570-01-P